OFFICE OF SCIENCE AND TECHNOLOGY POLICY

Request for Information: National Strategy for a Sustainable Ocean Economy

AGENCY: Office of Science and Technology Policy (OSTP).

ACTION: Notice of request for information (RFI); extension of comment deadline.

SUMMARY: The White House Office of Science and Technology Policy (OSTP) has requested publication of a document on June 29, 2023, concerning a request for information on the National Strategy for a Sustainable Ocean Economy.

FOR FURTHER INFORMATION CONTACT: Deerin Babb-Brott, OSTP Asst. Director for Ocean Policy, (202) 456-3267.

SUPPLEMENTARY INFORMATION:

Correction

In the Federal Register of June 29, 2023, in FR Doc. 2023-13839, on page 42112, in the first column extend the comment date from August 28, 2023 to September 14, 2023 and should read as follows:

DATES: The comment deadline has been extended from August 28, 2023 to September 14, 2023. Responses are due by 11:59 p.m. Eastern Time on September 14, 2023. Submissions received after the deadline may not be taken into consideration.

Dated: July 24, 2023.
Stacy Murphy,
Deputy Chief Operations Officer/Security Officer.

[FR Doc. 2023-15982 Filed 8-2-23; 8:45 am]

BILLING CODE 3270-F2-P